DEPARTMENT OF THE INTERIOR

National Park Service

Notice of Inventory Completion for Native American Human Remains and Associated Funerary Objects in the Possession of the Arizona State Museum, Tucson, AZ, and in the Control of the Bureau of Indian Affairs

AGENCY: National Park Service

ACTION: Notice

Notice is hereby given in accordance with provisions of the Native American Graves Protection and Repatriation Act (NAGPRA), 43 CFR 10.9, of the completion of an inventory of human remains and associated funerary objects in possession of the Arizona State Museum, Tucson, AZ, and in the control of the Bureau of Indian Affairs.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the Arizona State Museum professional staff and Bureau of Indian Affairs professional staff in consultation with representatives of the Gila River Indian Community of the Gila River Indian Reservation, Arizona; the Salt River Pima-Maricopa Indian Community of the Salt River Reservation, Arizona; the Ak Chin Indian Community of the Maricopa (Ak Chin) Indian Reservation, Arizona; the Tohono O'odham Nation of Arizona; the Hopi Tribe of Arizona; and the Pueblo of Zuni. The Pueblo of Zuni has withdrawn from this consultation. The Gila River Indian Community of the Gila River Indian Reservation, Arizona is acting on behalf of the Salt River Pima-Maricopa Indian Community of the Salt River Reservation, Arizona; the Ak Chin Indian Community of the Maricopa (Ak Chin) Indian Reservation, Arizona; the Tohono O'odham Nation of Arizona; and themselves.

In 1934-35, human remains representing five individuals were removed during excavations conducted by the Gila Pueblo Foundation of Arizona at the Snaketown Site (AZ:U:13:1 ASM) on the Gila River Indian Reservation, Pinal County, AZ. No known individuals were identified. The seven associated funerary objects are three pottery jars, one stone bead, one turquoise piece, two pottery bowls, and a figurine fragment.

In 1964-65, human remains representing 100 individuals were removed during excavations at the Snaketown Site (AZ:U:13:1 ASM) by University of Arizona staff. Four individuals consisted of inhumations, the remainder were removed from 97 cremation features. No known individuals were identified. The 5,543 associated funerary objects are 125 pottery sherds, 4 ceramic scoops, 21 pottery jars and jar fragments, 24 pottery bowls and bowl fragments, 3 plates and plate fragments, 1 pottery seed jar, 9 shells, 3,105 shell beads, 1,225 shell fragments, 11 shell artifacts, 1 shell artifact fragment, 1 shell bracelet, 74 shell bracelet fragments, 5 shell pendants, 1 shell ring, 10 bone tube fragments, 102 stone beads, 3 censers, 449 shell or stone beads, 3 turquoise pieces, 2 turquoise pendants, 1 stone pendant, 5 bone hair ornaments, 43 whole and fragmentary antler artifacts, 1 bone awl, 153 bone awl fragments, 10 bone artifact fragments, 2 pillow-shaped pieces, 1 polishing stone, 1 core, 1 pecking stone, 1 tabular knife, 1 hoe fragment, 1 stone scraper-chopper, 1 abrader, 2 reamers, 3 manos, 1 scraper, 1 hammerstone, 4 crystals, 2 medicine stones, 1 stone bowl, 5 figurine fragments, 15 stone palettes and palette fragments, 54 projectile points, 5 projectile point fragments, 49 unworked faunal bones and bone fragments, and 1 group of plant remains.

The archeological evidence, including characteristics of portable material culture, attributes of ceramic styles, domestic and ritual architecture, site organization, and canal-based agriculture of the settlement, places the Snaketown Site within the archeologically-defined Hohokam tradition and within the Phoenix Basin local variant of that tradition. The occupation of the Snaketown Site spans the years circa A.D. 500/700-1100/1150.

In 1964-1965, human remains representing three individuals were removed during joint University of Arizona Department of Anthropology and Arizona State Museum excavations at site AZ:U:13:22 ASM, Gila River Indian Reservation, Pinal County, AZ. No known individuals were identified. The two associated funerary objects are a bowl fragment and a ceramic sherd.

The archeological evidence, including characteristics of portable material culture, attributes of ceramic styles, domestic and ritual architecture, site organization, and canal-based agriculture of the settlement, places AZ U:13:22 within the archeologically-defined Hohokam tradition and within the Phoenix Basin local variant of that tradition. The occupation of AZ:U:13:22 ASM spans the years circa A.D. 1150-1350.

In 1964-1965, human remains representing 15 individuals were removed during joint University of Arizona Department of Anthropology and Arizona State Museum excavations at AZ:U:13:24 ASM, Gila River Indian Reservation, Pinal County, AZ. No known individuals were identified. The 165 associated funerary objects are 7 pottery jars, 1 bowl, 2 sherds, 1 projectile point, and 153 beads.

The archeological evidence, including characteristics of portable material culture, attributes of ceramic styles, domestic and ritual architecture, site organization, and canal-based agriculture of the settlement, places AZ U:13:24 ASM within the archeologically-defined Hohokam tradition and within the Phoenix Basin local variant of that tradition. The occupation of AZ:U:13:24 ASM spans the years circa A.D.1150-1350/1400.

In 1963, human remains representing 29 individuals were removed during I-10 Highway Salvage Project excavations at site AZ:U:13:9 ASM by Arizona State Museum staff Alfred E. Johnson. This site is located approximately one mile north of Bapchule, at the southwestern corner of Gila Butte, Gila River Indian Reservation, Pinal County, AZ. No known individuals were identified. The 141 associated funerary objects are 98 bone artifacts, 9 bowls, 8 jars, 1 pitcher, 1 plate, 4 reconstructable bowls, 3 reconstructable jars, 4 hammerstones, 2 shell pendants, 1 shell fragment, and 10 sherds.

Based upon architecture, portable material culture, and site organization, occupation at site AZ U:13:9 ASM has been dated to approximately A.D.700-1350/1400.

In 1963, human remains representing 16 individuals were removed during I-10 Highway Salvage Project excavations at site AZ U:13:11 ASM by Arizona State Museum staff Alfred E. Johnson. This site is located approximately 0.5 mile north of Bapchule, Gila River Indian Reservation, Pinal County, AZ. The 17 associated funerary objects are 1 pottery bowl, 5 jars, 1 scoop, 1 reconstructable jar, 3 jar fragments, and 6 sherds.

The archeological evidence, including characteristics of portable material culture, attributes of ceramic styles, domestic and ritual architecture, site organization, and canal-based agriculture of the settlement, places AZ U:13:11 within the archeologically-defined Hohokam tradition. The occupation of AZ U:13:11 spans the years circa A.D. 1150-1300.

In 1969, human remains representing three individuals were removed from site AZ U:13:27 ASM during excavations associated with the construction of the Sacaton municipal hospital, Sacaton, Gila River Reservation, Pinal County, AZ, by Arizona State Museum staff. No known individuals were identified. The five associated funerary objects are a shell bracelet, a shell pendant, a stone knife, a stone palette, and a ring.

The archeological evidence, including characteristics of portable material culture, attributes of ceramic styles, domestic and ritual architecture, site organization, and canal-based agriculture of the settlement, places AZ U:13:27 ASM within the archeologically-defined Hohokam tradition and within the Phoenix Basin local variant of that tradition. The occupation of AZ U:13:27 spans the years circa A.D.750-1350/1400.

At an unknown date, human remains representing one individual were recovered from Upper Sacaton Village (AZ U:14:8 ASM), Gila River Indian Reservation, Pinal County, AZ, by an unknown person. At an unknown time, these remains were donated to the Arizona State Museum by an unknown person. No known individual was identified. No associated funerary objects are present.

Based on architecture, portable material culture including red-on-buff and polychrome ceramics, and site organization, AZ U:14:8 ASM has been identified as a Hohokam site. The occupation of AZ U:14:8 ASM spans the years circa A.D.775-1500.

At unknown and, presumably, separate dates prior to 1967, human remains representing four individuals were removed from three cremation features at unknown sites in the vicinity of Sacaton, Gila River Indian Community, Pinal County, AZ, by an unknown person or persons. These remains were donated to the Arizona State Museum by unknown persons in 1967. No known individuals were identified. The three associated funerary objects are the jars in which the remains had been placed subsequent to cremation.

Based on characteristics of the mortuary program, these burials have been identified as having a high probability of association with the Hohokam archeological tradition.

In 1971, human remains representing three individuals were removed from surface contexts within the Gila River Indian Community, Pinal County, AZ, by Donald Wood, Arizona State Museum staff. No known individuals were identified. No associated funerary objects are present.

Based on characteristics of the mortuary program, these burials have been identified as having a high probability of association with the archeologically-defined Hohokam tradition.

Continuities of ethnographic materials and technology indicate affiliation of Hohokam settlements with present-day O'odham (Piman), Pee Posh, and Puebloan cultures. Oral traditions documented for the Gila River Indian Community of the Gila River Indian Reservation, Arizona; the Salt River Pima-Maricopa Indian Community of the Salt River Reservation, Arizona; the Ak Chin Indian Community of the Maricopa (Ak Chin) Indian Reservation, Arizona; the Tohono O'odham Nation of Arizona; the Hopi Tribe of Arizona; and the Pueblo of Zuni support affiliation with Hohokam sites in central Arizona.

Based on the above-mentioned information, officials of the Arizona State Museum and the Bureau of Indian Affairs have determined that, pursuant to 43 CFR 10.2 (d)(1), the human remains listed above represent the physical remains of 179 individuals of Native American ancestry. Officials of the Arizona State Museum and the Bureau of Indian Affairs also have determined that, pursuant to 43 CFR 10.2 (d)(2), the 5,899 objects listed above are reasonably believed to have been placed with or near individual human remains at the time of death or later as part of the death rite or ceremony. Lastly, officials of the Arizona State Museum and the Bureau of Indian Affairs have determined that, pursuant to 43 CFR 10.2 (e), there is a relationship of shared group identity that can be reasonably traced between these Native American human remains and associated funerary objects and the Gila River Indian Community of the Gila River Indian Reservation, Arizona; the Salt River Pima-Maricopa Indian Community of the Salt River Reservation, Arizona; the Ak Chin Indian Community of the Maricopa (Ak Chin) Indian Reservation, Arizona; the Tohono O'odham Nation of Arizona; the Hopi Tribe of Arizona; and the Pueblo of Zuni.

This notice has been sent to officials of the Gila River Indian Community of the Gila River Indian Reservation, Arizona; the Salt River Pima-Maricopa Indian Community of the Salt River Reservation, Arizona; the Ak Chin Indian Community of the Maricopa (Ak Chin) Indian Reservation, Arizona; the Tohono O'odham Nation of Arizona; the Hopi Tribe of Arizona; and the Pueblo of Zuni. Representatives of any other Indian tribe that believes itself to be culturally affiliated with these human remains and associated funerary objects should contact Lynn S. Teague, Repatriation Coordinator, Arizona State Museum, University of Arizona, Tucson, AZ 85721, telephone (520) 621-4795, before January 29, 2001. Repatriation of the human remains and associated funerary objects to the Gila River Indian Community of the Gila River Indian Reservation, Arizona; the Salt River Pima-Maricopa Indian Community of the Salt River Reservation, Arizona; the Ak Chin Indian Community of the Maricopa (Ak Chin) Indian Reservation, Arizona; the Tohono O'odham Nation of Arizona; the Hopi Tribe of Arizona; and the Pueblo of Zuni may begin after that date if no additional claimants come forward.

Dated: December 14, 2000.
John Robbins,
Assistant Director, Cultural Resources, Stewardship, and Partnerships.

[FR Doc. 00-33272 Filed 12-28-00; 8:45 am]

BILLING CODE 4310-70-F